DEPARTMENT OF THE TREASURY

United States Mint

Pricing for Bronze Medals

AGENCY: United States Mint, Department of the Treasury.

ACTION: Notice.

SUMMARY: The United States Mint is announcing the price of the 1 5/16-inch bronze medals, 1½-inch bronze medals and three-inch bronze medals.

Beginning March 25, 2010, the 1 5/16-inch bronze medals will be priced at $5.50 each; 1½-inch bronze medals will be priced at $6.00 each; and three-inch bronze medals will be priced at $42.00 each. Detailed information about product designs and availability can be found on the United States Mint Web site at http://www.usmint.gov.

FOR FURTHER INFORMATION CONTACT: B. B. Craig, Associate Director for Sales and Marketing; United States Mint; 801 9th Street, NW.; Washington, DC 20220; or call 202-354-7500.

Authority: 31 U.S.C. 5111, 5112 & 9701

Dated: March 17, 2010.
Edmund C. Moy,
Director, United States Mint.

[FR Doc. 2010-6335 Filed 3-23-10; 8:45 am]

BILLING CODE P